FEDERAL COMMUNICATIONS COMMISSION

47 CFR Part 73

[DA 04-3515, MB Docket No. 04-164, RM-10548, RM-11048]

Radio Broadcasting Services; Quincy, Portola, and Susanville, CA

AGENCY: Federal Communications Commission.

ACTION: Final rule.

SUMMARY: This document grants a petition filed by Corey J. McCaslin proposing the allotment of Channel 282A at Susanville, California, as its fourth FM broadcast service and substitution of Channel 265A for Channel 262A at Quincy and modification of the Station KHGQ(FM) license accordingly. See 69 FR 29917, published March 26, 2004. This document also grants a counterproposal filed by Eastern Sierra Broadcasting by allotting Channel 269A to Portola, California, as its first local service. This document also dismissed a counterproposal filed by Keily Miller, licensee of Station KHGQ(FM) requesting the reallotment of Channel 262A from Quincy to Durham, California, as its first local service. See SUPPLEMENTARY INFORMATION.

DATES: Effective December 20, 2004.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 04-164 adopted November 3, 2004, and released November 5, 2004. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the General Accounting Office pursuant to the Congressional Review Act, see 5 U.S.C. 801(a)(1)(A).

Channel 262A can be allotted to Susanville consistent with the Commission's minimum distance separation requirements at city reference coordinates. The reference coordinates for Channel 262A at Susanville are 40-24-59 North Latitude and 120-39-07 West Longitude. To accommodate the Susanville allotment, Channel 265A can be substituted at Quincy consistent with the Commission's minimum distance separation requirements at the current license site for Station KHGQ(FM). The coordinates for Channel 265A at Quincy are 39-56-15 North Latitude and 120-56-49 West Longitude. Additionally, Channel 269A can be allotted to Portola, in compliance with the Commission's minimum distance separation requirements provided there is a site restriction of 3.0 kilometers (1.8 miles) north of the community. The reference coordinates for Channel 269A at Portola are 39-49-59 North Latitude and 120-28-54 West Longitude.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under California, is amended by removing Channel 262A and adding Channel 265A at Quincy, by adding Portola, Channel 269A, and by adding Channel 262A at Susanville.

Federal Communications Commission.
John A. Karousos,
Assistant Chief, Audio Division, Media Bureau.

[FR Doc. 04-26062 Filed 11-23-04; 8:45 am]

BILLING CODE 6712-01-P